DEPARTMENT OF EDUCATION

Notice of Waivers for the Rehabilitation Training—Rehabilitation Continuing Education Program (RCEP)

AGENCY: Office of Special Education and Rehabilitative Services, Department of Education.

ACTION: Notice of waivers for the Rehabilitation Training—Rehabilitation Continuing Education Program (RCEP).

SUMMARY: The Secretary waives the requirements in 34 CFR 75.250 and 75.261(a) and (c)(2) of the Education Department General Administrative Regulations (EDGAR), respectively, that generally prohibit project periods exceeding five years and project period extensions involving the obligation of additional Federal funds. These waivers will enable the current RCEP grantees in Region II and in Region III to provide continuing education to employees of vocational rehabilitation (VR) agencies and their partners and to continue to receive some additional Federal funding from October 1 through December 15, 2008.

DATES: Effective Date: These waivers are effective September 25, 2008.

FOR FURTHER INFORMATION CONTACT: Christine Marschall. Telephone: (202) 245-7429 or via Internet: Christine.Marschall@ed.gov.

If you use a telecommunications device for the deaf (TDD), call the Federal Relay Service (FRS), toll-free, at 1-800-877-8339.

Individuals with disabilities can obtain this document in an alternative format (e.g., Braille, large print, audiotape, or computer diskette) on request to the contact person listed under FOR FURTHER INFORMATION CONTACT.

SUPPLEMENTARY INFORMATION:

Supplementary Information

The RCEPs provide continuing education to employees of State VR agencies and their partners, as well as other rehabilitation services agencies. The Rehabilitation Services Administration (RSA) in the Department's Office of Special Education and Rehabilitative Services is in the process of redesigning the RCEPs to create and support 10 regional Technical Assistance and Continuing Education (TACE) centers. To carry out this plan, the Department published a notice of final priority and a notice inviting applications in the Federal Register on June 5, 2008 (73 FR 32006.) Applications were due on July 31, 2008. The Department intends to make awards for the TACE centers so that grant activities can begin by October 1, 2008. However, the Department did not receive an eligible application for Region II and a fundable application for Region III and plans to re-announce the priority and notice inviting applications for these two regions as soon as possible.

The waivers announced in this notice are intended to ensure that services provided by the current RCEP grantees in Region II and in Region III are provided to the extent possible through December 15, 2008, the anticipated date that the Region II and Region III TACE centers will commence their project activities. The project period for the current RCEP grantee in Region II, The State University of New York at Buffalo, and in Region III, The George Washington University, ends on September 30, 2008. Because it would be contrary to the public interest to have a lapse in continuing education activities in Region II and in Region III before grants for RSA's new TACE centers for these two regions are awarded and implemented, the Secretary will provide some additional funding to the Region II and Region III RCEP grantees referenced in this paragraph to allow them to continue operating until December 15, 2008. In order to do so, the Secretary waives the requirements in 34 CFR 75.250 and 75.261(a) and (c)(2), which generally prohibit project periods exceeding five years and extensions of project periods that involve the obligation of additional Federal funds.

Waiver of Proposed Rulemaking and Delayed Effective Date

Under the Administrative Procedure Act (5 U.S.C. 553) (APA) the Department generally offers interested parties the opportunity to comment on an extension of project period and waiver under 34 CFR 75.250 and 75.261(a) and (c)(2). The APA provides that an agency is not required to conduct notice and comment rulemaking when the agency for good cause finds that notice and public comment are impracticable, unnecessary, or contrary to the public interest. We have determined that conducting rulemaking on the waivers of the requirements in 34 CFR 75.250 and 75.261(a) and (c)(2) for the current RCEP grantees in Region II and Region III would be impracticable and therefore contrary to the public interest because there is not adequate time to conduct notice and comment rulemaking before September 30, 2008, when the funding for the current continuing education activities in Region II and in Region III will end. For this reason and to prevent a lapse in these continuing education activities, the Department waives the APA's proposed rulemaking requirements for the waivers of the requirements in 34 CFR 75.250 and 75.261(a) and (c)(2) that will enable the Department to provide some additional funding to the current Region II and Region III RCEP grantees to allow them to continue operating until December 15, 2008.

The APA also provides that a substantive rule may not take effect within 30 days from publication unless the agency for good cause finds that a delayed effective date would not be in the public interest. For the reasons described in the preceding paragraph, we also are waiving the APA's requirement that this extension and waiver be published at least 30 days before the effective date.

Final Waivers—Rehabilitation Continuing Education Program

The Secretary waives the requirements in 34 CFR 75.250 and 75.261(a) and (c)(2), which prohibit project periods exceeding five years and extensions of project periods that involve the obligation of additional Federal funds, for the current RCEP grantees in Region II and in Region III in the fifth year of their grants.

Under these waivers, the RCEP grantees in Region II and in Region III, which have grants ending on September 30, 2008, are eligible for additional funding, as available, to allow them to continue activities through December 15, 2008.

Regulatory Flexibility Act Certification

The Secretary certifies that the announced waivers would not have a significant economic impact on a substantial number of small entities.

Paperwork Reduction Act of 1995

This notice of waivers would not contain any information collection requirements.

Intergovernmental Review: This program is subject to Executive Order 12372 and the regulations in 34 CFR part 79. One of the objectives of the Executive Order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

(Catalog of Federal Domestic Assistance Number 84.264A, Rehabilitation Continuing Education Program)

Program Authority: 29 U.S.C. 772.

Dated: September 22, 2008.
Tracy R. Justesen,
Assistant Secretary for Special Education and Rehabilitative Services.

[FR Doc. E8-22565 Filed 9-24-08; 8:45 am]

BILLING CODE 4000-01-P